ENVIRONMENTAL PROTECTION AGENCY

[FRL-7242-2]

Agency Information Collection Activities: Submission for OMB Review; Comment Request; Superfund Administrative Reform Surveys

AGENCY: Environmental Protection Agency (EPA).

ACTION: Notice.

SUMMARY: In compliance with the Paperwork Reduction Act (44 U.S.C. 3501 et seq.), this document announces that the following Information Collection Requests (ICRs) have been forwarded to the Office of Management and Budget (OMB) for review and approval: Superfund Orphan Share Compensation Reform Survey ICR, EPA ICR 2035.01; Superfund De Minimis Settlement Reform Survey ICR, EPA ICR 2036.01; and PRP Oversight Reform Survey ICR, EPA ICR 2037.01. The ICRs describe the nature of the information collection and their expected burden and costs; and they include the actual data collection instrument.

DATES: Comments must be submitted on or before August 5, 2002.

ADDRESSES: Send comments, referencing EPA ICR Nos. 2035.01, 2036.01 and/or 2037.01, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epa.gov, or download off the Internet at http://www.epa.gov/icr and refer to EPA ICR Nos. 2035.01, 2036.01 and/or 2037.01. For technical questions about any of the ICRs contact Bruce Pumphrey by phone at 202-564-6076 or by e-mail at pumphrey.bruce@epa.gov.

SUPPLEMENTARY INFORMATION: Title: (1) Superfund Orphan Share Compensation Reform Survey ICR, EPA ICR No. 2035.01. This is a new collection.

Abstract: This voluntary one-time information collection is for a survey of orphan share compensation reform participants who were offered orphan share compensation as part of the reform. The survey will be administered to a non-random sample consisting of one-third (33 percent) of the settlors and one-third (33 percent) of the non-settlors for each offer extended by the Agency, subject to a minimum of three offerees in each category. The information will not be generalized to the population of relevant offerees. The information collected from this survey will be used in a broader evaluation of the orphan share compensation reform's overall effectiveness. The information will also be used to identify any revisions to the reform necessary to achieve the goal of promoting settlements with responsible parties to perform or pay for response actions. No confidential information is being collected under this ICR.

Burden Statement: Affected Entities: Entities potentially affected by this action are persons who have participated in the orphan share compensation reform.

Estimated Number of Respondents: 300.

Frequency of Response: One time.

Estimated Total Annual Burden: 825 hours.

Estimated Total Annual Cost Burden: $25,403.

Title: (2) Superfund De Minimis Settlement Reform Survey ICR, EPA ICR No. 2036.01. This is a new collection.

Abstract: This voluntary one-time information collection is for a survey of de minimis settlement reform participants who were offered a de minimis settlement as part of the reform. The survey will be administered to a non-random sample consisting of one-fifth (20 percent) of the settlors and one-fifth (20 percent) of the non-settlors for each offer extended by the Agency, subject to a minimum of three offerees in each category. The information will not be generalized to the population of relevant offerees. The information collected from this survey will be used in a broader evaluation of the de minimis settlement reform's overall effectiveness in achieving the goals of the reform (promoting early settlement with small waste contributors and minimizing their legal transaction costs) and to identify any changes necessary to achieve these goals. No confidential information is being collected under this ICR.

Respondents/Affected Entities: Entities potentially affected by this action are persons who have participated in the de minimis settlement reform.

Estimated Number of Respondents: 347.

Frequency of Response: One time.

Estimated Total Annual Hour Burden: 1041 hours.

Estimated Total Annual Cost Burden: $32,743.

Title: (3) Superfund PRP Oversight Reform Survey ICR, EPA ICR No. 2037.01. This is a new collection.

Abstract: This voluntary one-time information collection is for a survey of parties that did work during FY00 under settlement agreements with EPA that provide for payment of oversight costs. The survey will be administered to all of the approximately 210 potential respondents that are willing to voluntarily participate. The information collected from this survey will be used in a broader evaluation of the PRP Oversight Reform's overall effectiveness in promoting effective and efficient PRP oversight and identifying best practices which could be more widely applied to meet the reform's goals and objectives. No confidential information is being collected under this ICR.

Respondents/Affected Entities: Entities potentially affected by this action are parties that did work during FY00 under settlement agreements with EPA that provide for payment of oversight costs.

Estimated Number of Respondents: 210.

Frequency of Response: One time.

Estimated Total Annual Hour Burden: 682.

Estimated Total Annual Cost Burden: $21,848.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on November 9, 2001 (66 FR 56670). No comments were received. Burden Statement: The annual reporting and recordkeeping burden for this collection of information is estimated to average 3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Send comments on the Agency's need for this information, the accuracy of the provided burden estimates, and any suggested methods for minimizing respondent burden, including through the use of automated collection techniques to the addresses listed above. Please refer to EPA ICR Nos. 2035.01, 2036.01 and/or 2037.01 in any correspondence.

Dated: June 27, 2002.
Oscar Morales,
Director, Collection Strategies Division.

[FR Doc. 02-16861 Filed 7-3-02; 8:45 am]

BILLING CODE 6560-50-P